DEPARTMENT OF HOMELAND SECURITY

Office of the Secretary

[Docket No. DHS-2014-0065]

Privacy Act of 1974; Department of Homeland Security/U.S. Immigration and Customs Enforcement—013 Alien Health Records System of Records

AGENCY: Privacy Office, Department of Homeland Security.

ACTION: Notice of Privacy Act System of Records.

SUMMARY: In accordance with the Privacy Act of 1974, the Department of Homeland Security proposes to update and rename a Department of Homeland Security/U.S. Immigration and Customs Enforcement system of records notice now titled, “Department of Homeland Security/U.S. Immigration and Customs Enforcement—013 Alien Health Records System of Records.” This system maintains records that document the health screening, examination, and treatment of aliens arrested by the Department of Homeland Security and detained by U.S. Immigration and Customs Enforcement for civil immigration purposes in facilities where care is provided by the ICE Health Service Corps. With the publication of this updated system of records, several changes are being made: (1) New categories of records have been added; (2) new routine uses have been added to allow the Department of Homeland Security to share information from the system; and (3) additional information has been added to clarify the process regarding notification of and access to records. This updated system will be included in the Department of Homeland Security's inventory of record systems.

DATES: Submit comments on or before February 4, 2015. This updated system will be effective February 4, 2015.

ADDRESSES: You may submit comments, identified by docket number DHS-2014-0065 by one of the following methods:

• Federal e-Rulemaking Portal: http://www.regulations.gov. Follow the instructions for submitting comments.

• Fax: 202-343-4010.

• Mail: Karen L. Neuman, Chief Privacy Officer, Privacy Office, Department of Homeland Security, Washington, DC 20528.

Instructions: All submissions received must include the agency name and docket number for this notice. All comments received will be posted without change to http://www.regulations.gov, including any personal information provided.

Docket: For access to the docket to read background documents or comments received, please visit http://www.regulations.gov.

FOR FURTHER INFORMATION CONTACT: For general questions, please contact Lyn Rahilly (202-732-3300), Privacy Officer, U.S. Immigration and Customs Enforcement. For privacy questions, please contact Karen L. Neuman (202-343-1717), Chief Privacy Officer, Privacy Office, U.S. Department of Homeland Security, Washington, DC 20528.

SUPPLEMENTARY INFORMATION:

I. Background

In accordance with the Privacy Act of 1974, 5 U.S.C. 552a, the Department of Homeland Security (DHS)/U.S. Immigration and Customs Enforcement (ICE) proposes to update and rename a current DHS system of records titled, “DHS/ICE-013 Alien Health Records System of Records.”

DHS is updating and renaming the DHS/ICE-013 Alien Health Records System of Records to add new categories of records and routine uses, to provide additional information regarding the retention of records about minors, and to clarify the process regarding individual notification of and access to records. This system of records was previously titled DHS/ICE-013 Alien Medical Records System of Records. This system of records is maintained by the ICE Health Service Corps (IHSC), a division within ICE's Enforcement and Removal Operations (ERO) office. (Note: IHSC was previously named the Division of Immigration Health Services (DIHS).) This system of records maintains medical, mental health, and dental records that document the medical screening, examination, diagnosis, and treatment of aliens whom ICE detains for civil immigration purposes in facilities where medical care is provided by IHSC. It also maintains information about prisoners of the U.S. Marshals Service (USMS) who are housed in a detention facility operated by or on behalf of ICE pursuant to an agreement between the USMS and ICE, and where medical care is provided by IHSC. IHSC provides necessary and appropriate medical, mental health, and dental care to ICE detainees. IHSC medical staff may also procure consultation, diagnostic, treatment, or procedural services IHSC deems necessary and appropriate from external health care providers in facilities outside of IHSC. Medical information is typically shared with other health care providers to ensure a detainee's continuity of care. For individuals with infectious diseases of public health significance, their information may be shared with public health officials in order to prevent exposure to or transmission of the disease.

New categories of records have been added to the DHS/ICE-013 Alien Health Records System of Records to provide a more complete list of the types of records in the system. These include: payment authorizations for care provided to detainees by external healthcare providers and healthcare facilities; evaluation records, including records related to mental health evaluations; records related to medical grievances filed by detainees; and detainees' medical or healthcare records received from external healthcare providers. Additionally, new routine uses have been added to allow ICE to share information from the system of records. Below is a summary of the new routine uses and their corresponding letter:

U. To courts, magistrates, administrative tribunals, opposing counsel, parties, and witnesses, in the course of immigration, civil, or criminal proceedings (including discovery, presentation of evidence, and settlement negotiations) and when DHS determines that use of such records is relevant and necessary to the litigation before a court or adjudicative body;

V. To an attorney or representative (as defined in 8 CFR 1.2, 292.1, 1001.1(f) or 1292.1) who is acting on behalf of an individual covered by this system of records in connection with any proceeding before United States Citizenship and Immigration Services (USCIS), ICE, or U.S. Customs and Border Protection (CBP), or the Department of Justice's Executive Office for Immigration Review;

W. To international, foreign, intergovernmental, and multinational government agencies, authorities, and organizations in accordance with law and formal or informal international arrangements;

X. To a coroner for purposes of identifying a deceased individual (whether or not such individual is deceased as a result of a crime), performance of an autopsy, or identifying cause of death;

Y. To the Department of Health and Human Services (HHS), the Centers for Disease Control and Prevention (CDC), or to any state or local health authorities, to ensure that all health issues potentially affecting public health and safety in the United States are adequately addressed;

Z. To a former employee of DHS for purposes of responding to an official inquiry or facilitating communications with a former employee that may be relevant for personnel-related or other official purposes;

AA. To the Department of State when it seeks information to consider or provide an informed response to a foreign government inquiring about an alien or an enforcement operation with transnational implications;

BB. To federal, state, local, tribal, territorial, or foreign government agencies or entities or multinational government agencies when DHS desires to exchange relevant data for the purpose of developing, testing, or implementing new software or technology related to this system of records;

CC. To federal, state, local, tribal, territorial, or foreign government agencies, medical personnel, or other individuals when DHS desires to use de-identified data for training or other similar purposes; and

DD. To medical and mental health professionals for the purpose of assessing an individual's mental competency before the Department of Justice's Executive Office for Immigration Review.

Additionally, the section describing the retention of records has been updated to include the retention period for records about minors. Medical records about a minor will be retained until the minor has reached the age of 27 years in order to comply with state laws regarding the retention of medical records related to minors. The records will then be destroyed.

Information has also been added to clarify the process regarding notification of and access to records. In addition to submitting a request for records under the Freedom of Information Act (FOIA), individuals currently detained in IHSC-staffed facilities may request access to their records by submitting a written request to a staff member in the facility's health care unit. Individuals may submit the request using a DHS Form G-639, Freedom of Information/Privacy Act Request or by otherwise requesting a copy of their medical records in writing. Although outside the scope of this SORN, there is no set procedure for how detainees access their medical records in a facility where IHSC does not provide care. Each facility has its own process and individuals seeking copies of their records should contact the chief administrative officer of the facility for guidance.

Finally, it is important to note that ICE IHSC is not subject to the provisions of the Health Insurance Portability and Accountability Act of 1996 (HIPAA) regulation, “Standards for Privacy of Individually Identifiable Health Information” (Privacy Rule), 45 CFR parts 160 and 164. ICE IHSC does not meet the statutory definition of a covered plan under HIPAA, 42 U.S.C. 1320d(5), and is specifically excluded from the application of HIPAA as a “government funded program whose principal activity is the direct provision of healthcare to persons,” 45 CFR 160.103 (definition of a health plan). Because ICE IHSC is not a covered entity, the restrictions proscribed by the HIPAA Privacy Rule are not applicable.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses to which their records are put, and to assist individuals to more easily find such files within the agency. Below is the description of the DHS/ICE—013 Alien Health Records System of Records.

In accordance with 5 U.S.C. 552a(r), DHS has provided a report of this system of records to the Office of Management and Budget and to Congress.

SYSTEM OF RECORDS

Department of Homeland Security (DHS)/U.S. Immigration and Customs Enforcement (ICE)—013

System name:

Alien Health Records System

Security classification:

Unclassified and for official use only.

System location:

Records are maintained in the ICE electronic health records (eHR) system and at detention facilities where care is provided by the Enforcement and Removal Operations ICE Health Service Corps (IHSC). IHSC provides care to aliens in all Service Processing Centers, which are ICE-operated facilities; at most contract detention facilities, which are owned and operated by a private company with which ICE contracts for detention services; and in some Intergovernmental Service Agreement (IGSA) facilities. IGSAs are facilities operated by a city, county, or state government and ICE contracts with them for detention services, leases bed space, or both from them. Records are also maintained at ICE Headquarters in Washington, DC, and at ICE field offices.

Categories of individuals covered by the system:

Two categories of individuals are covered by this system. The first category is aliens detained by ICE for civil immigration purposes. These aliens have been booked into a detention facility where medical care is provided by IHSC. The second category is prisoners in the custody of the U.S. Marshals Service (USMS) who are being detained in facilities operated by or on behalf of ICE pursuant to an agreement between the USMS and ICE and who also receive medical care from IHSC. Hereafter, the term “in ICE custody” will be used to refer to both the aliens detained by ICE who receive medical care from IHSC and the USMS prisoners being housed in IHSC-staffed detention facilities.

Categories of records in the system:

Categories of records in this system include:

• Individual's name and aliases;

• Date of birth;

• Alien Registration Number (A-Number);

• USMS or Federal Bureau of Prisons Registration Number (if applicable);

• Phone numbers;

• Email addresses;

• Addresses;

• Country of Origin and Country of Citizenship;

• Nationality;

• Gender/Sex;

• Languages spoken;

• Medical history (self and family to establish medical history);

• Current medical conditions and diagnoses;

• Symptoms reported, including dates;

• Medical examination records and medical notes;

• Medical and mental health records and treatment plans;

• Dental history and records, including x-rays, treatment, and procedure records;

• Diagnostic data, such as tests ordered and test results;

• Problem list which contains the diagnoses and medical symptoms or problems as determined by a medical practitioner or reported by the person;

• Records concerning the diagnosis and treatment of diseases or conditions that present a public health threat, including information about exposure of other individuals and reports to public health authorities;

• Correspondence related to an individual's medical, dental, and mental health care;

• External healthcare provider records (emergency room, hospitalizations, specialized care, records of previous medical care or testing) including medical or healthcare records received from other correctional systems or ICE detention facilities not staffed by IHSC;

• Payment authorizations for care provided by external healthcare providers and healthcare facilities;

• Evaluation records, including records related to mental competency evaluations;

• Prescription and over-the-counter drug records;

• Records related to medical grievances filed by individuals in ICE custody;

• Information about medical devices used by individuals such as hearing aids and pacemakers;

• Information about special needs and accommodations for an individual with disabilities, such as requiring a cane, wheelchair, special shoes, or needing to sleep on a bottom bunk;

• Physician or other medical/dental provider's name and credentials such as medical doctor, registered nurse, and Doctor of Dental Science;

• Refusal forms;

• Informed consent forms; and

• Legal documents, such as death certificates, do-not-resuscitate orders, or advance directives (e.g., living wills).

Authority for maintenance of the system:

5 U.S.C. 301; 44 U.S.C. 3101; 8 U.S.C. 1103, 1222 and 1231; 42 U.S.C. 249.

Purpose(s):

The purpose of this system is to document and facilitate the provision of medical, dental, and mental health care to individuals in ICE custody in facilities where care is provided by IHSC. The system also supports the collection, maintenance, and sharing of medical information for these individuals in the interest of public health especially in the event of a public health emergency, such as an epidemic or pandemic.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including U.S. Attorney Offices, or other federal agency conducting litigation or in proceedings before any court, adjudicative or administrative body, when it is relevant or necessary to the litigation and one of the following is a party to the litigation or has an interest in such litigation:

1. DHS or any component thereof;

2. Any employee or former employee of DHS in his/her official capacity;

3. Any employee or former employee of DHS in his/her individual capacity where DOJ or DHS has agreed to represent the employee; or

4. The United States or any agency thereof.

B. To a congressional office in response to an inquiry made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS' efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. Where a record, either on its face or in conjunction with other information, indicates a violation or potential violation of law, rule, regulation, or order, which includes criminal, civil, or regulatory violations, and such disclosure is proper and consistent with the official duties of the person making the disclosure, a disclosure may be made to the appropriate federal, state, local, tribal, territorial, international, or foreign law enforcement agencies or other appropriate authorities charged with investigating or prosecuting a violation or enforcing or implementing such law, rule, regulation, or order.

H. To hospitals, physicians, medical laboratories and testing facilities, and other medical service providers, for the purpose of diagnosing and treating medical conditions or arranging the care of individuals in ICE custody and of individuals released or about to be released from ICE custody including, but not limited to, released under an order of supervision, on their own recognizance, on bond, on parole, or in an alternative to detention program.

I. To prospective claimants and their attorneys for the purpose of negotiating the settlement of an actual or prospective claim against DHS or its current or former employees, in advance of the initiation of formal litigation or proceedings.

J. To immediate family members and attorneys or other agents acting on behalf of an alien to assist those individuals in determining the current medical condition of an alien in ICE custody provided they can present adequate verification of a familial or agency relationship with the alien.

K. To federal, state, local, tribal, territorial, or foreign governmental agencies; multilateral governmental organizations; or other public health entities, for the purposes of protecting the vital interests of a record subject or other persons, including to assist such agencies or organizations during an epidemiological investigation, in facilitating continuity of care, preventing exposure to or transmission of a communicable or quarantinable disease of public health significance, or to combat other significant public health threats.

L. To hospitals, physicians, and other healthcare providers for the purpose of protecting the health and safety of individuals who may have been exposed to a contagion or biohazard, or to assist such persons or organizations in preventing exposure to or transmission of a communicable or quarantinable disease or to combat other significant public health threats.

M. To individuals for the purpose of determining if they have had contact in a custodial setting with a person known or suspected to have a communicable or quarantinable disease and to identify and protect the health and safety of others who may have been exposed.

N. To the U.S. Marshals Service (USMS) concerning USMS prisoners that are or will be held in detention facilities operated by or on behalf of ICE, and to federal, state, local, tribal, or territorial law enforcement or correctional agencies concerning an individual in ICE custody that is to be transferred to such agency's custody, in order to coordinate the transportation, custody, and care of these individuals.

O. To third parties to facilitate placement, or release of an individual (e.g., at a group home, homeless shelter, with a family member, etc.) who has been released from DHS custody or whose case is being considered or prepared for release from DHS custody, but only such information that is relevant and necessary to arrange housing, continuing medical care, or other social services for the individual.

P. To a domestic government agency or other appropriate healthcare authority for the purpose of providing information about an individual who has been released from DHS custody or whose case is being considered or prepared for release from DHS custody who, due to a condition such as mental illness, may pose a health or safety risk to himself/herself or to the community. DHS will only disclose health information about the individual that is relevant to the health or safety risk they may pose or the means to mitigate that risk (e.g., the alien's need to remain on certain medication for a serious mental health condition).

Q. To foreign governments for the purpose of coordinating and conducting the removal or return of aliens from the United States to other nations when disclosure of information about the alien's health is necessary or advisable to safeguard the public health, to facilitate transportation of the alien, to obtain travel documents for the alien, to ensure continuity of medical care for the alien, or is otherwise required by international agreement or law. Disclosure of medical information may occur after the alien's removal when it is necessary or advisable to assist the foreign government with the alien's ongoing medical care.

R. To the Federal Bureau of Prisons and other government agencies for the purpose of providing health information about an alien when custody of the alien is being transferred from DHS to the other agency. This will include the transfer of information about unaccompanied minor children to the U.S. Department of Health and Human Services.

S. To state, local, tribal or territorial agencies or other appropriate authority for the purpose of reporting vital statistics (e.g., births, deaths).

T. To a public or professional licensing organization when such information indicates, either by itself or in combination with other information, a violation or potential violation of professional standards, or reflects on the moral, educational, or professional qualifications of a healthcare provider who is licensed or is seeking to become licensed.

U. To courts, magistrates, administrative tribunals, opposing counsel, parties, and witnesses, in the course of immigration, civil, or criminal proceedings (including discovery, presentation of evidence, and settlement negotiations) and when DHS determines that use of such records is relevant and necessary to the litigation before a court or adjudicative body when any of the following is a party to or have an interest in the litigation:

1. DHS or any component thereof;

2. Any employee of DHS in his/her official capacity;

3. Any employee of DHS in his/her individual capacity where the government has agreed to represent the employee; or

4. The United States, where DHS determines that litigation is likely to affect DHS or any of its components.

V. To an attorney or representative (as defined in 8 CFR 1.2, 292.1, 1001.1(f), or 1292.1) who is acting on behalf of an individual covered by this system of records in connection with any proceeding before USCIS, ICE, or CBP or the Department of Justice's Executive Office for Immigration Review.

W. To international, foreign, intergovernmental, and multinational government agencies, authorities, and organizations in accordance with law and formal or informal international arrangements.

X. To a coroner for purposes of identifying a deceased individual (whether or not such individual is deceased as a result of a crime) performance of an autopsy, or identifying cause of death.

Y. Consistent with the requirements of the Immigration and Nationality Act, to the Department of Health and Human Services (HHS), the Centers for Disease Control and Prevention (CDC), or to any state or local health authorities, to ensure that all health issues potentially affecting public health and safety in the United States are being or have been, adequately addressed.

Z. To a former employee of DHS for purposes of responding to an official inquiry by federal, state, local, tribal, or territorial government agencies or professional licensing authorities; or facilitating communications with a former employee that may be relevant and necessary for personnel-related or other official purposes when DHS requires information or consultation assistance from the former employee regarding a matter within that person's former area of responsibility.

AA. To the Department of State when it seeks information to consider or provide an informed response to a request for information from a foreign, international, or intergovernmental agency, authority, or organization about an alien or an enforcement operation with transnational implications.

BB. To federal, state, local, tribal, territorial, or foreign government agencies or entities or multinational government agencies when DHS desires to exchange relevant data for the purpose of developing, testing, or implementing new software or technology whose purpose is related to this system of records.

CC. To federal, state, local, tribal, territorial, or foreign government agencies, medical personnel, or other individuals when DHS desires to use de-identified data for illustrative or informative purposes in training, in presentations, or for other similar purposes.

DD. To medical and mental health professionals for the purpose of assessing an individual's mental competency before the Department of Justice's Executive Office for Immigration Review.

EE. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities behind a locked door. Electronic records are stored on magnetic disc, tape, digital media, and CD-ROM.

Retrievability:

Records may be retrieved by name, Alien Registration Number (A-Number), Subject ID, or USMS/Federal Bureau of Prisons Registration Number.

Safeguards:

Records in this system are safeguarded in accordance with applicable rules and policies, including all applicable DHS automated systems security and access policies. Strict controls have been imposed to minimize the risk of compromising the information that is being stored. Access to the computer systems containing the records in this system is limited to those individuals who have a need to know the information for the performance of their official duties and who have appropriate clearances or permissions.

Retention and disposal:

ICE is in the process of developing a records retention schedule for the various records associated with the records described in this notice. ICE anticipates that:

(1) Medical records for an adult will be retained for ten (10) years after an individual has been released from ICE custody and then shall be destroyed;

(2) annual data on detainees who have died in ICE custody that has been transferred to the Bureau of Justice Statistics (BJS) and annual reports regarding infectious diseases will be retained for ten (10) years and then destroyed;

(3) various statistical reports will be retained permanently by NARA; and

(4) monthly and annual statistical reports, including those regarding workload operations, will be destroyed when no longer needed for business purposes.

System Manager and address:

Assistant Director, ICE Health Service Corps, Enforcement and Removal Operations, U.S. Immigration and Customs Enforcement, 500 12th Street SW., Washington, DC 20536.

Notification procedure:

Individuals seeking notification of and access to any record contained in this system of records, or seeking to contest its content, may submit a request in writing to the U.S. Immigration and Customs Enforcement Freedom of Information Act (FOIA) Officer, whose contact information can be found at http://www.dhs.gov/foia under “FOIA Contact Information.” If an individual believes more than one component maintains Privacy Act records concerning him or her, the individual may submit the request to the Chief Privacy Officer and Chief Freedom of Information Act Officer, Department of Homeland Security, 245 Murray Drive SW., Building 410, STOP-0655, Washington, DC 20528-0655.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information, the component(s) may not be able to conduct an effective search, and your request may be denied due to lack of specificity or lack of compliance with applicable regulations.

In addition to submitting a request to the ICE or DHS FOIA Officer, individuals currently detained in IHSC-staffed facilities may request access to their records by submitting a written request to a staff member in the facility's health care unit. Individuals may submit the request using a Form G-639, Freedom of Information/Privacy Act Request form or otherwise requesting a copy of their medical records in writing. Although outside the scope of this SORN, the following has been inserted for clarification purposes only. There is no set procedure for how individuals detained in a facility where IHSC does not provide care request access to their records. Each facility has its own process and individuals seeking copies of their records should contact the chief administrative officer of the facility for guidance.

Record access procedures:

See “Notification procedure” above.

Contesting record procedures:

See “Notification procedure” above.

Record source categories:

Information may be obtained from the individual, immediate family members, physicians, nurses, dentists, medical laboratories and testing facilities, hospitals, other medical and dental care providers, other law enforcement or custodial agencies, other detention facilities, and public health agencies.

Exemptions claimed for the system:

None.

Dated: December 11, 2014.
Karen L. Neuman,
Chief Privacy Officer, Department of Homeland Security.

[FR Doc. 2014-30854 Filed 1-2-15; 8:45 am]

BILLING CODE 9111-28-P